DEPARTMENT OF TRANSPORTATION

Federal Aviation Administration

[Docket No. FAA-2024-1191]

Agency Information Collection Activities: Requests for Comments; Clearance of a New Approval of Information Collection: International Traveler Information Card

AGENCY: Federal Aviation Administration (FAA), Department of Transportation.

ACTION: Notice and request for comments.

SUMMARY: In accordance with the Paperwork Reduction Act of 1995, FAA invites public comments about our intention to request the Office of Management and Budget (OMB) approval for a new information collection. The Federal Register Notice with a 60-day comment period soliciting comments on the following collection of information was published on May 1, 2024, and no comments were received. The collection involves obtaining information from FAA employees and contractors who will travel overseas on official business. The information to be collected will be used in the event an FAA employee and/or contractor is isolated overseas and requires lifesaving assistance. This information is necessary to comply with Federal law, which require Federal agencies to have personnel information on file in case of an isolating event overseas.

DATES: Written comments should be submitted by January 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael S. Raby, Division Manager, FAA Office of Investigations and Professional Responsibility (AXI-500) by email at: michael.raby@faa.gov; phone: (202) 604-2419.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: International Traveler Information Card.

Form Numbers: There are no FAA forms associated with this information collection.

Type of Review: New information collection.

Background: The Federal Register Notice with a 60-day comment period soliciting comments on the following collection of information was published on May 1, 2024 (89 FR 35298). The International Traveler Information Card (ITIC) is an electronic form that FAA employees and contractors will complete prior to international travel on official business. The purpose of the form is to collect pertinent data to be used in the event a FAA employee and/or contractor are isolated overseas and require lifesaving assistance. This data will assist in the government's ability to properly identify individuals and provide, if necessary, medical support and personal items to FAA employees and contractors should they be isolated overseas.

The authority for this collection resides in Presidential Policy Directive (PPD)/PPD-30, 22 U.S.C. 4802 and 22 U.S.C. 3927. The duty of an agency with employees in foreign countries is to ensure they fully comply with all applicable directives of the Chief of Mission. In order to protect FAA personnel on official duty abroad, the ITIC documents the Personally Identifiable Information (PII) of FAA employees and contractors to help aid in their authentication and recovery. The ITIC requests the following PII: Name, Date of Birth, Gender, Height, Weight, Hair and Eye Color, Clothing and Shoe Size, Race/Ethnic Group, Blood Type, Scars/Marks/Tattoos, Known Medical Conditions, Current Medical Prescriptions, Allergies, Contact Information, Specialized Training, Language(s) Spoken, as well as information about their Emergency Contact. The traveler will also create a Duress Word and Personal Authenticator Statements to aid in the identification.

This information will not be available to the public, and will be managed in accordance with applicable Records Management and Privacy Act policies. Only two International Travel Security Program Managers and the Senior Watch Officer of the Washington Operations Center can retrieve ITICs to aid employees and/or contractors during an isolating event, as determined by the Chief of Mission. The Chief of Mission, relying on situational factors, will make the ultimate decision on who this information is shared with, such as, but not limited to, the Department of Defense, in the event of a personnel recovery event.

Respondents: The FAA estimates that there will be 35 respondents based on the average number of contractors who travelled internationally on official business in fiscal years 2023-2024.

Frequency: As needed.

Estimated Average Burden per Response: 0.5 hours.

Estimated Total Annual Burden: 17.5 hours for all responses.

Issued in Washington, DC, on November 8, 2024.
Michelle Salter,
Executive Director, FAA, Office of Investigations and Professional Responsibility.

[FR Doc. 2024-26852 Filed 12-10-24; 8:45 am]

BILLING CODE 4910-13-P